DEPARTMENT OF THE INTERIOR

National Park Service

[NPS-WASO-NAGPRA-NPS0035254; PPWOCRADN0-PCU00RP14.R50000]

Notice of Inventory Completion: University of Wisconsin-Milwaukee, Milwaukee, WI

AGENCY: National Park Service, Interior.

ACTION: Notice.

SUMMARY: In accordance with the Native American Graves Protection and Repatriation Act (NAGPRA), the University of Wisconsin-Milwaukee (UWM) has completed an inventory of human remains and associated funerary objects and has determined that there is a cultural affiliation between the human remains and associated funerary objects and Indian Tribes or Native Hawaiian organizations in this notice. The human remains and associated funerary objects were removed from Brown County, WI.

DATES: Repatriation of the human remains and associated funerary objects in this notice may occur on or after March 6, 2023.

ADDRESSES: Jennifer R. Haas, NAGPRA Coordinator, University of Wisconsin-Milwaukee, P.O. Box 413, Milwaukee, WI 53201, telephone (414) 229-3078, email haasjr@uwm.edu.

SUPPLEMENTARY INFORMATION: This notice is published as part of the National Park Service's administrative responsibilities under NAGPRA. The determinations in this notice are the sole responsibility of UWM. The National Park Service is not responsible for the determinations in this notice. Additional information on the determinations in this notice, including the results of consultation, can be found in the inventory or related records held by UWM.

Description

Human remains representing, at minimum, one individual were removed from Brown County, WI, during the 1978 and 1979 investigations at the McGuire/Beaumier Farm site (47-BR-60) by a private cultural resource management firm as part of a survey project of the Green Bay coastal corridor. The site dates to the Late Woodland (A.D. 900 to 1300), Oneota (A.D. 1100 to 1600), and/or Historic Native American periods. This collection was transferred to UWM sometime between 2000 and 2010. No associated funerary objects are present.

Human remains representing, at minimum, two individuals were removed from Brown County, WI, during the 1978 and 1979 investigations at the Bordeleau site (47-BR-222) by a cultural resource management firm as part of a survey project of the Green Bay coastal corridor. The site dates to the Woodland (500 BC to A.D. 1300), Oneota (A.D. 1100 to 1600), and/or Historic Native American periods. This collection was transferred to UWM sometime between 2000 and 2010. The one associated funerary object is one rolled copper bead.

In October of 1988, human remains representing, at minimum, five individuals were removed from the Astor site (47-BR-0243) in Brown County, WI, during Great Lakes Archaeological Research Center excavations for the South Adams Street Development Project. The site dates to the Middle to Late Archaic (4500 to 500 BC) and/or Oneota (A.D. 1100 to 1600) periods. (The site also has Middle Woodland (A.D. 0 to 400) and Late Woodland (A.D. 900 to 1300) components, but the burials are believed to be associated with the site's Oneota and/or Middle to Late Archaic occupation.) This collection was transferred to UWM in the early 2000s. The two associated funerary objects are two lots containing shell-tempered pottery sherds, lithic debitage, fire-cracked rock, faunal material, and historic items.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical, archeological, and expert opinion.

Determinations

Pursuant to NAGPRA and its implementing regulations, and after consultation with the appropriate Indian Tribes and Native Hawaiian organizations, UWM has determined that:

• The human remains described in this notice represent the physical remains of eight individuals of Native American ancestry.

• The three objects described in this notice are reasonably believed to have been placed with or near individual human remains at the time of death or later as part of the death rite or ceremony.

• There is a relationship of shared group identity that can be reasonably traced between the human remains and associated funerary objects described in this notice and the Ho-Chunk Nation of Wisconsin; Iowa Tribe of Kansas and Nebraska; Iowa Tribe of Oklahoma; Menominee Indian Tribe of Wisconsin; Otoe-Missouria Tribe of Indians, Oklahoma; and the Winnebago Tribe of Nebraska.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 6, 2023. If competing requests for repatriation are received, UWM must determine the most appropriate requestor prior to repatriation. Requests for joint repatriation of the human remains and associated funerary objects are considered a single request and not competing requests. UWM is responsible for sending a copy of this notice to the Indian Tribes in this notice.

Authority: Native American Graves Protection and Repatriation Act, 25 U.S.C. 3003, and the implementing regulations, 43 CFR 10.9, 10.10, and 10.14.

Dated: January 27, 2023.
Melanie O'Brien,
Manager, National NAGPRA Program.

[FR Doc. 2023-02276 Filed 2-2-23; 8:45 am]

BILLING CODE 4312-52-P